DEPARTMENT OF HEALTH AND HUMAN SERVICES

Centers for Disease Control and Prevention

Notice of Award of a Single-Source Cooperative Agreement To Fund the National Lung Hospital (NLH)/National Tuberculosis Program, Vietnam

AGENCY: Centers for Disease Control and Prevention (CDC), Department of Health and Human Services (HHS).

ACTION: Notice.

SUMMARY: The Centers for Disease Control and Prevention (CDC), located within the Department of Health and Human Services (HHS), announces the award of approximately $1,500,000, for Year 1 of funding to the National Lung Hospital (NLH)/National Tuberculosis Program (NTP). The award will support high quality TB, multi-drug resistant TB (MDR-TB), and TB/HIV programs to strengthen and expand TB and MDR-TB quality-assured diagnostic capacity (clinical and laboratory testing); promote TB, MDR-TB, and TB/HIV prevention and integration into existing healthcare services; strengthen TB surveillance and monitoring and evaluation (M&E) and improve collaboration and coordination between TB and other programs, particularly HIV and COVID-19. Funding amounts for years 2-5 will be set at continuation.

DATES: The period for this award will be September 30, 2022 through September 29, 2027.

FOR FURTHER INFORMATION CONTACT: Amy Bailey, Center for Global Health, Centers for Disease Control and Prevention, 5th/Floor Tung Shing Building, No 2, Ngo Quyen Street, Hoan Kiem District Hanoi, Vietnam, Telephone: 800-232-6348, email: fue8@cdc.gov.

SUPPLEMENTARY INFORMATION: The single-source award will contribute to enhancing early and universal access to high quality prevention, diagnosis, and treatment services for TB, MDR-TB, and TB/HIV with the goal of ending TB in Vietnam by 2030.

The NLH/NTP is in a unique position to conduct this work as it is mandated by Vietnam Ministry of Health (MoH) with oversight and implementation of TB prevention and control activities in Vietnam. The NLH is the leading tertiary hospital in charge of examination and treatment of TB and lung diseases and steering TB and lung disease prevention and control activities throughout the country.

Summary of the Award

Recipient: National Lung Hospital (NLH)/National Tuberculosis Program (NTP).

Purpose of the Award: The purpose of this award is to support high quality TB, MDR-TB, and TB/HIV programs to strengthen and expand TB and MDR-TB quality-assured diagnostic capacity (clinical and laboratory testing); promote TB, MDR-TB, and TB/HIV prevention and integration into existing healthcare services; strengthen TB surveillance and M&E and improve collaboration and coordination between TB and other programs, particularly HIV and COVID-19.

Amount of Award: The approximate year 1 funding amount will be $1,500,000 in Federal Fiscal Year (FYY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: February 1, 2022.
Terrance Perry,
Chief Grants Management Officer, Centers for Disease Control and Prevention.

[FR Doc. 2022-02412 Filed 2-3-22; 8:45 am]

BILLING CODE 4163-18-P